DEPARTMENT OF HOUSING AND URBAN DEVELOPMENT

[Docket No. FR-5188-N-09]

Notice of Proposed Information Collection; Comment Request

AGENCY: Office of the Assistant Secretary for Community Planning and Development, HUD.

ACTION: Notice.

SUMMARY: The proposed information collection requirement described below will be submitted to the Office of Management and Budget (OMB) for review, as required by the Paperwork Reduction Act. The Department is soliciting public comments on the subject proposal.

DATES: Comments due: September 2, 2008.

ADDRESSES: Interested persons are invited to submit comments regarding this proposal. Comments should refer to the proposal by name and/or OMB Control Number and should be sent to: Lillian L. Deitzer, Departmental Reports Management Officer, QDAM, Department of Housing and Urban Development, 451 Seventh Street, SW., Room 4176, Washington, DC 20410; telephone: 202-708-2374, (this is not a toll-free number) or e-mail Ms. Deitzer at Lillian_L._Deitzer@HUD.gov for a copy of the proposed form and other available information.

FOR FURTHER INFORMATION CONTACT: Francis P. McNally, Congressional Grants Division, Department of Housing and Urban Development, 451 Seventh Street, SW., Washington, DC 20410; telephone 202-402-7100 (this is not a toll-free number).

SUPPLEMENTARY INFORMATION: The Department will submit the proposed information collection to OMB for review, as required by the Paperwork Reduction Act of 1995 (44 U.S.C. Chapter 35, as amended).

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Congressional Earmarks Grants.

OMB Control Number, if applicable: 2506-Pending.

Description of the need for the information and proposed use: This information is to be submitted by grant applicants to obtain higher rating points based on association with successful efforts to remove regulatory barriers which may impede the production of affordable housing.

Agency form numbers, if applicable: SF424, SFLLL, SF 424 B, SF1199A, SF269A, HUD27053, HUD27054, and HUD27056.

Members of Affected Public: Non-profit organization, local governments or Tribal government.

Estimation of the total number of hours needed to prepare the information collection including number of respondents, frequency of response, and hours of response:

Frequency of Submission: On occasion

| Number of respondents | Annual responses | × | Hours per response | = | Burden hours
Reporting burden | 777 | 1 |  | 2 |  | 1,554

Total Estimated Burden Hours: 1,554.

Status of the proposed information collection: In process.

Authority: Section 3506 of the Paperwork Reduction Act of 1995, 44 U.S.C. Chapter 35, as amended.

Dated: June 20, 2008.
Nelson R. Bregón,
General Deputy Assistant Secretary, Community Planning and Development.

[FR Doc. E8-15027 Filed 7-1-08; 8:45 am]

BILLING CODE 4210-67-P